FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011961-012.

Title: The Maritime Credit Agreement.

Parties Alianca Navegacao e Logistica Ltda. & Cia.; A.P. Moller-Maersk A/S trading under the name of Maersk Line; China Shipping Container Lines Co., Ltd.; CMA CGM S.A.; Companhia Libra de Navegacao; Compania Libra de Navegacion Uruguay S.A.; Compania Sud Americana de Vapores, S.A.; COSCO Container Lines Company Limited; Dole Ocean Cargo Express; Hamburg-Süd; Hoegh Autoliners A/S; Hyundai Merchant Marine Co., Ltd.; Independent Container Line Ltd.; Kawasaki Kisen Kaisha, Ltd.; Nippon Yusen Kaisha; Norasia Container Lines Limited; Safmarine Container Lines N.V.; United Arab Shipping Company (S.A.G.); Wallenius Wilhelmsen Logistics AS; YangMing Marine Transport Corp.; Zim Integrated Shipping Services, Ltd.

Filing Party: Wayne R. Rohde, Esq.; Cozen O'Connor; 1627 I Street NW., Suite 1100; Washington, DC 20006.

Synopsis: The amendment removes Hoegh Autoliners A/S. as party to the Agreement.

Agreement No.: 012128-002.

Title: Southern Africa Agreement.

Parties: A.P. Moller-Maersk A/S trading under the name Maersk Line, and Mediterranean Shipping Company S.A.

Filing Party: Wayne R. Rohde, Esquire; Cozen O'Connor; 1627 I Street NW., Suite 1100; Washington, DC 20006-4007.

Synopsis: The amendment deletes Safmarine Container Lines N.V. as a party to the agreement and makes the corresponding technical corrections necessary to reflect the fact that the agreement has only two parties.

By Order of the Federal Maritime Commission.
Dated: January 4, 2013.
Karen V. Gregory,
Secretary.

[FR Doc. 2013-00274 Filed 1-8-13; 8:45 am]

BILLING CODE 6730-01-P